DEPARTMENT OF HOUSING AND URBAN DEVELOPMENT

[Docket No. FR-5324-N-03]

Notice of Regulatory Waiver Requests Granted for the Third Quarter of Calendar Year 2009

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2009 and ending on September 30, 2009.

FOR FURTHER INFORMATION CONTACT: For general information about this notice, contact Camille E. Acevedo, Associate General Counsel for Legislation and Regulations, Office of General Counsel, Department of Housing and Urban Development, 451 7th Street, SW., Room 10282, Washington, DC 20410-0500, telephone 202-708-1793 (this is not a toll-free number). Persons with hearing- or speech-impairments may access this number through TTY by calling the toll-free Federal Information Relay Service at 800-877-8339.

For information concerning a particular waiver that was granted and for which public notice is provided in this document, contact the person whose name and address follow the description of the waiver granted in the accompanying list of waivers that have been granted in the third quarter of calendar year 2009.

SUPPLEMENTARY INFORMATION:

Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337), as revised and updated by the notice issued on December 17, 2008 (73 FR 76674). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2009 through September 30, 2009. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the third quarter of calendar year 2009) before the next report is published (the fourth quarter of calendar year 2009), HUD will include any additional waivers granted for the second quarter in the next report.

Accordingly, information about approved waiver requests pertaining to HUD regulations is provided in the Appendix that follows this notice.

Dated: December 23, 2009.
Helen R. Kanovsky,
General Counsel.

Appendix

Listing of Waivers of Regulatory Requirements Granted by Offices of the Department of Housing and Urban Development July 1, 2009 Through September 30, 2009

Note to Reader: More information about the granting of these waivers, including a copy of the waiver request and approval, may be obtained by contacting the person whose name is listed as the contact person directly after each set of regulatory waivers granted.

The regulatory waivers granted appear in the following order:

I. Regulatory waivers granted by the Office of Community Planning and Development

II. Regulatory waivers granted by the Office of Housing

III. Regulatory waivers granted by the Office of Public and Indian Housing

I. Regulatory Waivers Granted by the Office of Community Planning and Development

For further information about the following regulatory waivers, please see the name of the contact person that immediately follows the description of the waiver granted.

• Regulation: 24 CFR 92.500 (d)(1)(C).

Project/Activity: The City of Port Arthur, Texas requested a waiver of its June 30, 2009, deadline for expending more than $31,000 of HOME Investment Partnerships program funds. Disruptions caused by hurricanes Rita and Ike caused delays in committing and expending HOME funds.

Nature of Requirement: The HOME regulations at 24 CFR 92.500(d)(1)(C) require that a participating jurisdiction (PJ) expend its annual allocation of HOME funds within five years after HUD notifies the PJ that HUD has executed the jurisdiction's HOME Investment Partnerships Agreement.

Granted By: Mercedes M. Márquez, Assistant Secretary for Community Planning and Development.

Date Granted: September 25, 2009.

Reason Waived: The waiver of the City's FY 2004 HOME expenditure deadline ensures that funds necessary for recovery from two major disasters are not deobligated.

Contact: Ms. Virginia Sardone, Deputy Director, Office of Affordable Housing Programs, Office of Community and Urban Development, Office of Housing and Urban Development, Department of Housing and Urban Development, 451 Seventh Street, SW., Room 7164, Washington, DC 20410-7000, telephone number (202) 708-2470.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, the City of Jamestown, New York, requested a waiver of the application deadline.

Nature of Requirement: Section IV.E.3 of the HPRP Notice provides that each eligible HPRP grantee must ensure that its complete application is postmarked no later than May 18, 2009, in order to receive funding.

Granted By: Nelson R. Bregon, General Deputy Assistant Secretary for Community and Planning Development.

Date Granted: June 25, 2009.

Reason Waived: HUD approved the waiver because an extension of the application deadline would enable the City of Jamestown to fully develop an HPRP program by involving the local Continuum of Care partners through the Chautauqua County Homeless Coalition and providing adequate notice and opportunity for citizen participation in finalizing the Substantial Amendment.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, the City of Columbia, South Carolina, requested a waiver of the application deadline.

Nature of Requirement: Section IV.E.3 of the HPRP Notice provides that each eligible HPRP grantee must ensure that its complete application is postmarked no later than May 18, 2009, in order to receive funding.

Granted By: Nelson R. Bregon, General Deputy Assistant Secretary for Community Planning Development.

Date Granted: June 25, 2009.

Reason Waived: Due to a recent reorganization of the City's Community Development Department, the City was unable to submit a Substantial Amendment to its 2008 Consolidated Action Plan by May 18, 2009, deadline. HUD approved this waiver because the need for the waiver was due to an unavoidable administrative barrier. The City hand-delivered its Amendment to the local Field Office on May 19, 2009.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, the State of South Dakota, requested a waiver of the application deadline.

Nature of Requirement: Section IV.E.3 of the HPRP Notice provides that each eligible HPRP grantee must ensure that its complete application is postmarked no later than May 18, 2009, in order to receive funding.

Granted By: Mercedes Marquez, Assistant Secretary of Community Planning and Development.

Date Granted: July 27, 2009.

Reason Waived: HUD presented additional clarifications on the HPRP program during the time the State held its public comment period for its Substantial Amendment. In response to HUD clarifications, the State initiated modifications to its Substantial Amendment and invited public comments on its modified Amendment. The State requested an extension of the submission deadline in order to fully develop the HPRP program in light of HUD's clarifications and to provide adequate notice and opportunity for citizen participation in finalizing the Substantial Amendment. HUD granted the requested waiver upon this showing of good cause.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, the City of Portland, Oregon requested a waiver of the limitation on eligible subgrantees in order to subgrant HPRP funds to a local public housing authority (PHA).

Nature of Requirement: Subsections III.B and III.C of the HPRP Notice provides that metropolitan cities, urban counties, and territories may distribute all or part of their grant amounts to private non-profit organizations or another local government.

Granted By: Mercedes Marquez, Assistant Secretary for Community Planning and Development.

Date Granted: July 27, 2009.

Reason Waived: The City provided sufficient information for HUD to grant the waiver on the basis of the following: (1) HPRP participants will be selected in a manner that will ensure PHA residents are not unfairly selected over other eligible individuals and families; (2) utilizing the PHA as a subgrantee will result in an efficient and effective program that benefits HPRP participants; and (3) the PHA has proven capacity to serve homeless persons.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, City of Mobile, Alabama requested a waiver of the limitation on eligible subgrantees in order to subgrant HPRP funds to a local public housing authority (PHA).

Nature of Requirement: Subsections III.B and III.C of the HPRP Notice provides that metropolitan cities, urban counties, and territories may distribute all or part of their grant amounts to private non-profit organizations or another local government.

Granted By: Mercedes Marquez, Assistant Secretary for Community Planning and Development.

Date Granted: July 28, 2009.

Reason Waived: The City provided sufficient information for HUD to grant the waiver on the basis of the following: (1) HPRP participants will be selected in a manner that will ensure Housing Authority residents are not unfairly selected over other eligible individuals and families; (2) utilizing the Housing Authority as a subgrantee will result in an efficient and effective program that benefits HPRP participants; and (3) the Housing Authority has proven capacity to serve homeless persons.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, the City of Saginaw, Michigan, requested a waiver of the resubmission deadline.

Nature of Requirement: Section IV.F.2 of the HPRP Notice provides that each eligible HPRP grantee may revise and resubmit an application that HUD has disapproved within 15 days of the date that it was notified of the disapproval.

Granted By: Mercedes Marquez, Assistant Secretary for Community Planning and Development.

Date Granted: July 28, 2009.

Reason Waived: On June 18, 2009, HUD disapproved the City's submission of the Substantial Amendment to the Consolidated Plan 2008 Action Plan for HPRP because it was not responsive to one question. The revision was due on July 3, 2009, but the City indicated that the mayor is the authorized representative for the application and was unavailable to sign the grantee's revised Substantial Amendment for HPRP by the due date of July 3, 2009. The city submitted its revision on July 8, 2009. HUD approved this waiver because the need for the waiver was due to an unavoidable administrative barrier.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, County of Riverside, California requested a waiver of the limitation on eligible subgrantees in order to subgrant HPRP funds to a local public housing authority (PHA).

Nature of Requirement: Subsections III.B and III.C of the HPRP Notice provides that metropolitan cities, urban counties, and territories may distribute all or part of their grant amounts to private non-profit organizations or another local government.

Granted By: Mercedes Marquez, Assistant Secretary for Community Planning and Development.

Date Granted: July 28, 2009.

Reason Waived: The County provided sufficient information for HUD to grant the waiver on the basis of the following: (1) HPRP participants will be selected in a manner that will ensure PHA residents are not unfairly selected over other eligible individuals and families; (2) utilizing the PHA as a subgrantee will result in an efficient and effective program that benefit HPRP participants; and (3) the PHA has proven capacity to serve homeless persons.

Contact: Ann M. Oliva, Director, Office of Special Needs Assistance Programs, Office of Community Planning and Development, Department of Housing and Urban Development 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, County of Los Angeles, California requested a waiver of the limitation on eligible subgrantees in order to subgrant HPRP funds to the Los Angeles Homeless Services Authority (LAHSA).

Nature of Requirement: Subsections III.B. and III.C of the HPRP Notice provides that metropolitan cities, urban counties, and territories may distribute all or part of their grant amounts to private non-profit organizations or another local government.

Granted By: Mercedes Marquez, Assistant Secretary for Community Planning and Development.

Date Granted: August 6, 2009.

Reason Waived: The County provided sufficient information for HUD to grant the waiver on the basis of the following: (1) HPRP participants will continue to be selected in a fair process; (2) utilizing LAHSA as a subgrantee will result in an efficient and effective program that benefits HPRP participants; and (3) LAHSA has the capacity to implement an HMIS to serve homeless families.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, City of Oceanside, California requested a waiver of the limitation on eligible subgrantees in order to subgrant HPRP funds to the Housing Authority of the City of Oceanside.

Nature of Requirement: Subsections III.B and III.C of the HPRP Notice provides that metropolitan cities, urban counties, and territories may distribute all or part of their grant amounts to private non-profit organizations or another local government.

Granted By: Mercedes Marquez, Assistant Secretary for Community Planning and Development.

Date Granted: August 6, 2009.

Reason Waived: The City provided sufficient information for HUD to grant the waiver on the basis of the following: (1) HPRP participants will be selected in a manner that will ensure Housing Authority residents are not unfairly selected over other eligible individuals and families; (2) utilizing the Housing Authority as a subgrantee will result in an efficient and effective program that benefits HPRP participants; and (3) the Housing Authority has proven capacity to serve homeless persons.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, City of Los Angeles, California requested a waiver of the limitation on eligible subgrantees in order to subgrant HPRP funds to the Los Angeles Homeless Services Authority (LAHSA) and the Housing Authority of the City of Los Angeles (HACLA).

Nature of Requirement: Subsections III.B and III.C of the HPRP Notice provides that metropolitan cities, urban counties, and territories may distribute all or part of their grant amounts to private non-profit organizations or another local government.

Granted By: Nelson R. Bregon, General Deputy Assistant Secretary for Community Planning and Development.

Date Granted: August 6, 2009.

Reason Waived: The City provided sufficient information for HUD to grant the waiver on the basis of the following: (1) HPRP participants will be selected in a manner that will ensure HACLA residents are not unfairly selected over other eligible individuals and families; (2) utilizing LAHSA and HACLA as a subgrantee will result in an efficient and effective program that benefits HPRP participants; and (3) LAHSA and HACLA have proven capacity to serve homeless persons.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, City of Riverside, California requested a waiver of the limitation on eligible subgrantees in order to subgrant HPRP funds to the Housing Authority of the County of Riverside (HACR).

Nature of Requirement: Subsections III.B and III.C of the HPRP Notice provides that metropolitan cities, urban counties, and territories may distribute all or part of their grant amounts to private non-profit organizations or another local government.

Granted By: Mercedes Marquez, Assistant Secretary for Community Planning and Development.

Date Granted: August 6, 2009.

Reason Waived: The City provided sufficient information for HUD to grant the waiver on the basis of the following: (1) HPRP participants will be selected in a manner that will ensure HACR residents are not unfairly selected over other eligible individuals and families; (2) utilizing the HACR as a subgrantee will result in an efficient and effective program that benefits HPRP participants; and (3) HACR has proven capacity to serve homeless persons.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, County of San Diego, California requested a waiver of the limitation on eligible subgrantees in order to subgrant HPRP funds to the Housing Authority of the County of San Diego.

Nature of Requirement: Subsections III.B and III.C of the HPRP Notice provides that metropolitan cities, urban counties, and territories may distribute all or part of their grant amounts to private non-profit organizations or another local government.

Granted By: Mercedes Marquez, Assistant Secretary for Community Planning and Development.

Date Granted: August 6, 2009.

Reason Waived: The City provided sufficient information for HUD to grant the waiver on the basis of the following: (1) HPRP participants will be selected in a manner that will ensure Housing Authority residents are not unfairly selected over other eligible individuals and families; (2) utilizing the Housing Authority as a subgrantee will result in an efficient and effective program that benefits HPRP participants; and (3) the Housing Authority has proven capacity to serve homeless persons.

Contact: Ann M. Oliva, Director, Office of Special Needs Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, County of Sonoma, California requested a waiver of the limitation on eligible subgrantees in order to subgrant HPRP funds to Sonoma County Housing Authority (SCHA).

Nature of Requirement: Subsections III.B and III.C of the HPRP Notice provides that Metropolitan Cities, urban counties, and territories may distribute all or part of their grant amounts to private non-profit organizations or another local government.

Granted By: Mercedes Marquez, Assistant Secretary for Community Planning and Development.

Date Granted: August 11, 2009.

Reason Waived: The County provided sufficient information for HUD to grant the waiver on the basis of the following: (1) HPRP participants will be selected in a manner that will ensure SCHA residents are not unfairly selected over other eligible individuals and families; (2) utilizing SCHA as a subgrantee will result in an efficient and effective program that benefits HPRP participants; and (3) SCHA has proven capacity to serve homeless persons.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, City of Boise, Idaho requested a waiver of the limitation on eligible subgrantees in order to subgrant HPRP funds to the Boise City/Ada County Housing Authority (BC/ACHA).

Nature of Requirement: Subsections III.B and III.C of the HPRP Notice provide that metropolitan cities, urban counties, and territories may distribute all or part of their grant amounts to private non-profit organizations or another local government.

Granted By: Mercedes Marquez, Assistant Secretary for Community Planning and Development.

Date Granted: August 11, 2009.

Reason Waived: The City provided sufficient information for HUD to grant the waiver on the basis of the following: (1) HPRP participants will be selected in a manner that will ensure BC/ACHA residents are not unfairly selected over other eligible individuals and families; (2) utilizing BC/ACHA as a subgrantee will result in an efficient and effective program that benefits HPRP participants; and (3) BC/ACHA has proven capacity to serve homeless persons.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, City of Compton, California requested a waiver of the limitation on eligible subgrantees in order to subgrant HPRP funds to the Compton Housing Authority.

Nature of Requirement: Subsections III.B and III.C of the HPRP Notice provides that metropolitan cities, urban counties, and territories may distribute all or part of their grant amounts to private non-profit organizations or another local government.

Granted By: Mercedes Marquez, Assistant Secretary for Community and Planning Development.

Date Granted: August 11, 2009.

Reason Waived: The City provided sufficient information for HUD to grant the waiver on the basis of the following: (1) HPRP participants will be selected in a manner that will ensure Housing Authority residents are not unfairly selected over other eligible individuals and families; (2) utilizing the Housing Authority as a subgrantee will result in an efficient and effective program that benefits HPRP participants; and (3) the Housing Authority has proven capacity to serve homeless persons.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, City of Jackson, Mississippi requested a waiver of the limitation on eligible subgrantees in order to subgrant HPRP funds to the Jackson Housing Authority.

Nature of Requirement: Subsections III.B and III.C of the HPRP Notice provides that metropolitan cities, urban counties, and territories may distribute all or part of their grant amounts to private non-profit organizations or another local government.

Granted By: Mercedes Marquez, Assistant Secretary for Community and Planning Development.

Date Granted: August 11, 2009.

Reason Waived: The City provided sufficient information for HUD to grant the waiver on the basis of the following: (1) HPRP participants will be selected in a manner that will ensure Housing Authority residents are not unfairly selected over other eligible individuals and families; (2) utilizing the Housing Authority as a subgrantee will result in an efficient and effective program that benefits HPRP participants; and (3) the Housing Authority has proven capacity to serve homeless persons.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, the Town of Union, New York, requested a waiver of the resubmission deadline.

Nature of Requirement: Section IV.F.2 of the HPRP Notice provides that each eligible HPRP grantee may revise and resubmit an application that HUD has disapproved within 15 days of the date that it was notified of the disapproval.

Granted By: Mercedes Marquez, Assistant Secretary for Community Planning and Development.

Date Granted: August 12, 2009.

Reason Waived: The Town of Union requested an additional 15 days to submit a new application meeting HUD's program requirements. HUD determined that there was good cause for waiving the 15-day resubmission deadline based on the following: The Town of Union submitted a Substantial Amendment by the May 18, 2009, application submission deadline, which proposed using all HPRP funds to purchase furnaces for low-income elderly homeowners. On May 14, 2009, the Town of Union also requested a waiver of any prohibition on funding this kind of activity. On July 2, 2009, HUD wrote to the Town of Union indicating that its request for a waiver of the eligible activities under the Notice was still under review. On July 9, 2009, the Town of Union requested an additional 15 days to resubmit an approvable application containing eligible activities should HUD both disapprove its application and deny its waiver request. On July 14, 2009, HUD: (1) Disapproved the HPRP application based upon the ineligibility of the proposed funding of furnaces for elderly people; and (b) denied the request for a waiver of the Notice's eligible activity standards to permit the funding of furnaces for elderly persons. The timing of HUD's application disapproval and the denial of the waiver request came too late for the Town of Union to effectively revise and resubmit a new HPRP application within the remaining time available under the original 15-day resubmission period.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, City of Lima, Ohio requested a waiver of the limitation on eligible subgrantees in order to subgrant HPRP funds to the Allen Metropolitan Housing Authority (AMHA).

Nature of Requirement: Subsections III.B and III.C of the HPRP Notice provides that metropolitan cities, urban counties, and territories may distribute all or part of their grant amounts to private non-profit organizations or another local government.

Granted By: Mercedes Marquez, Assistant Secretary for Community Planning and Development.

Date Granted: August 20, 2009.

Reason Waived: The City provided sufficient information for HUD to grant the waiver on the basis of the following: (1) HPRP participants will be selected in a manner that will ensure AMHA residents are not unfairly selected over other eligible individuals and families; (2) utilizing AMHA as a subgrantee will result in an efficient and effective program that benefits HPRP participants; and (3) AMHA has proven capacity to serve homeless persons.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, County of McHenry, Illinois requested a waiver of the limitation on eligible subgrantees in order to subgrant HPRP funds to the McHenry County Housing Authority (MCHA).

Nature of Requirement: Subsections III.B and III.C of the HPRP Notice provides that metropolitan cities, urban counties, and territories may distribute all or part of their grant amounts to private non-profit organizations or another local government.

Granted By: Mercedes Marquez, Assistant Secretary for Community Planning and Development.

Date Granted: August 20, 2009.

Reason Waived: The County provided sufficient information for HUD to grant the waiver on the basis of the following: (1) HPRP participants will be selected in a manner that will ensure MCHA residents are not unfairly selected over other eligible individuals and families; (2) utilizing MCHA as a subgrantee will result in an efficient and effective program that benefits HPRP participants; and (3) MCHA has proven capacity to serve homeless persons.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, Cumberland County, requested a waiver of the limitation on eligible subgrantees in order to subgrant HPRP funds to the Housing Authority of Cumberland County, Pennsylvania.

Nature of Requirement: Subsections III.B and III.C of the HPRP Notice provides that metropolitan cities, urban counties, and territories may distribute all or part of their grant amounts to private non-profit organizations or another local government.

Granted By: Mercedes Marquez, Assistant Secretary for Community Planning and Development.

Date Granted: August 24, 2009.

Reason Waived: The County provided sufficient information for HUD to grant the waiver on the basis of the following: (1) HPRP participants will be selected in a manner that will ensure Housing Authority residents are not unfairly selected over other eligible individuals and families; (2) utilizing the Housing Authority as a subgrantee will result in an efficient and effective program that benefits HPRP participants; and (3) the Housing Authority has proven capacity to serve homeless persons.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, the State of Arizona, Arizona Department of Housing (ADOH), requested a waiver in order to retain and use HPRP funds for administering the Homeless Management Information System (HMIS) as required by the Recovery Act.

Nature of Requirement: Subsection III.A of the HPRP Notice provides that a State grantee must make available all of its formula allocation, except for an appropriate share of funds for administrative costs, to units of general local government and private nonprofit organizations in the State to carry out all eligible activities.

Granted By: Mercedes Marquez, Assistant Secretary for Community Planning and Development.

Date Granted: September 8, 2009.

Reason Waived: The State provided sufficient information for HUD to grant the waiver on the basis of the following: (1) the HMIS is already in place; (2) the HMIS is administered by ADOH; and (3) the alternative proposal of utilizing a fee structure to administer HMIS and meet the requirements in the Recovery Act would impose additional administrative burdens for the State.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Kentucky Housing Corporation (KHC), acting on behalf of the Homelessness Prevention and Rapid Re-Housing Program (HPRP) grantee, the State of Kentucky, requested a waiver in order to retain and use HPRP funds for administering the Homeless Management Information System (HMIS) as required by the Recovery Act.

Nature of Requirement: Subsection III.A of the HPRP Notice provides that a State grantee must make available all of its formula allocation, except for an appropriate share of funds for administrative costs, to units of general local government and private nonprofit organizations in the State to carry out all eligible activities.

Granted By: Mercedes Marquez, Assistant Secretary for Community Planning and Development.

Date Granted: September 8, 2009.

Reason Waived: KHC provided sufficient information for HUD to grant the waiver on the basis of the following: (1) The HMIS is already in place; (2) the HMIS is administered by KHC; and (3) the alternative proposal of utilizing a fee structure to administer HMIS and meet the requirements in the Recovery Act would impose additional administrative burdens for KHC.

Contact: Ann M. Oliva, Director, Office of Special Needs Assistance Programs, Office of Community Planning and Development, Department of Housing and Urban Development, 451 Seventh Street, SW., Room 7262, Washington, DC 20410-7000, telephone number 202-708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, Horry County, South Carolina, requested a waiver of the limitation on eligible subgrantees in order to subgrant HPRP funds to the Conway Housing Authority (CHA) and the Myrtle Beach Housing Authority (MBHA).

Nature of Requirement: Subsections III.B and III.C of the HPRP Notice provides that metropolitan cities, urban counties, and territories may distribute all or part of their grant amounts to private non-profit organizations or another local government.

Granted By: Mercedes Marquez, Assistant Secretary for Community Planning Development.

Date Granted: September 8, 2009.

Reason Waived: The County provided sufficient information for HUD to grant the waiver on the basis of the following: (1) HPRP participants will be selected in a manner that will ensure CHA and MBHA residents are not unfairly selected over other eligible individuals and families; (2) utilizing the CHA and MBHA as subgrantees will result in an efficient and effective program that benefits HPRP participants; and (3) CHA and MBHA have proven capacity to serve homeless persons.

Contact: Ann M. Oliva, Director, Office of Special Needs Assistance Programs, Office of Community Planning and Development, Department of Housing and Urban Development, 451 Seventh Street, SW., Room 7262, Washington, DC 20410-7000, telephone number (202) 708-4300.

• Regulation: Notice of Allocations, Application Procedures, and Requirements for Homelessness Prevention and Rapid Re-Housing Program Grantees under the American Recovery and Reinvestment Act of 2009 (Recovery Act), issued March 19, 2009 (HPRP Notice).

Project/Activity: Homelessness Prevention and Rapid Re-Housing Program (HPRP) grantee, the City of Tacoma, Washington requested a waiver of the limitation on eligible subgrantees in order to subgrant HPRP funds to the Pierce County Housing Authority (PCHA).

Nature of Requirement: Subsections III.B and III.C of the HPRP Notice provides that metropolitan cities, urban counties, and territories may distribute all or part of their grant amounts to private non-profit organizations or another local government.

Granted By: Mercedes Marquez, Assistant Secretary for Community Planning and Development.

Date Granted: September 30, 2009.

Reason Waived: The City provided sufficient information for HUD to grant the waiver on the basis of the following: (1) HPRP participants will be selected in a manner that will ensure PCHA residents are not unfairly selected over other eligible individuals and families; (2) utilizing the PCHA as a subgrantee will result in an efficient and effective program that benefits HPRP participants; and (3) PCHA has proven capacity to serve homeless persons.

Contact: Ann M. Oliva, Director, Office of Special Needs Assistance Programs, Office of Community Planning and Development, Department of Housing and Urban Development, 451 Seventh Street, SW., Room 7262, Washington, DC 20410-7000, telephone number (202) 708-4300.

II. Regulatory Waivers Granted by the Office of Housing—Federal Housing Administration (FHA)

For further information about the following regulatory waivers, please see the name of the contact person that immediately follows the description of the waiver granted.

• Regulation: 24 CFR 203.37a.

Project/Activity: Property Flipping, Atlanta, GA.

Nature of the Requirement: FHA's property flipping regulation restricts the eligibility for FHA mortgage insurance, for those properties purchased and re-sold within 90 days. The regulation exempts government entities and nonprofits approved to purchase HUD real estate owned (REO) properties; however, the restriction still exists for private entities and especially those working on behalf of local governments under the Neighborhood Stabilization Program. The waiver request is to exempt a private entity working on behalf of a local government for the Neighborhood Stabilization Program.

Granted by: David H. Stevens, Assistant Secretary for Housing—Federal Housing Commissioner.

Date Granted: September 14, 2009.

Reason Waived: The regulation was waived to allow for purchase and resale of REO properties within 90 days under the Neighborhood Stabilization Program, which furthers the purposes of this program which is designed to stabilize neighborhoods through the purchase of abandoned and foreclosed homes.

Contact Person(s): Ralph Jackson, Real Estate Owned Division, Atlanta Homeownership Center, Office of Housing, Department of Housing and Urban Development, 40 Marietta Street, Atlanta, GA 30303, telephone (678) 732-2153. Kevin Shearer, Field Review Branch 1, Atlanta Homeownership Center, Office of Housing, Department of Housing and Urban Development, 40 Marietta Street, Atlanta, GA 30303, telephone (678) 732-2161.

• Regulation: 24 CFR 203.43f.

Project/Activity: Federal Emergency Management Agency (FEMA) designated Flood Hazard Areas in the State of Louisiana.

Nature of the Requirement: The National Flood Insurance Program (NFIP) installation requirements for manufactured homes and the flood hazard regulations for one and two single family dwellings are less onerous than the flood hazard regulations for manufactured homes found at 24 CFR 203.43f, which specify that the finished grade beneath the manufactured home must be at or above the 100 year return frequency flood elevation. Extending the waiver to 24 CFR 203.43f permits manufactured homes that are located in FEMA designated flood hazard areas to be in compliance with the less onerous NFIP requirements and serves to assist in the reconstruction of homes impacted by Hurricane Katrina in the State of Louisiana.

Granted by: David H. Stevens, Assistant Secretary for Housing—Federal Housing Commissioner.

Date Granted: August 11, 2009.

Reason Waived: Extending the waiver to 24 CFR 203.43f permits manufactured homes that are located in FEMA designated flood hazard areas to be in compliance with the less onerous NFIP requirements and serves to assist in the reconstruction/replacement of homes impacted by Hurricane Katrina in the State of Louisiana with an affordable housing type.

Contact: Joanne Kuczma, Director, Office of Single Family Program Development, Home Mortgage Insurance Division, Office of Housing, Department of Housing and Urban Development, 451 7th Street, SW. Washington, DC 20410-8000, telephone 202-402-2137.

• Regulation: 24 CFR 206.32(a).

Project/Activity: The waiver is applicable to certain borrowers in the State of Maine under FHA's Home Equity Conversion Mortgage (HECM) Program.

Nature of Requirement: FHA's regulation 24 CFR 206.23(a) require that there be no outstanding or unpaid obligations, incurred by the HECM mortgagor, in connection with the HECM transaction. The borrowers obtained a negotiated short payoff on their forward mortgage from their existing lender, CitiFinancial. They are seeking HECM financing which will be used to satisfy their existing mortgage and outstanding judgments. The HECM lender, American Home Bank, worked with Maine Stream Finance, a Community Development Financial Institution, in order for the homeowners to obtain subordinate financing, enabling them to satisfy certain financial obligations, and, in turn, close the HECM transaction and save their home from foreclosure.

Granted By: David H. Stevens, Assistant Secretary for Housing—Federal Housing Commissioner.

Date Granted: September 10, 2009.

Reason Waived: The regulation was waived to prevent the borrowers from losing their home through foreclosure.

Contact: Kathy Hardy, Home Valuation Policy Division, Office of Single Family Program Development, Office of Housing, Department of Housing and Urban Development, 451 Seventh Street, SW., Room 9241, Washington, DC 20410-8000, telephone (202) 708-2121.

• Regulation: 24 CFR 219.220(b)(1995), 24 CFR Part 219.320(1995) and 24 CFR 219.335(a) (1995).

Project/Activity: Lakeview Towers, Chicago, Illinois—FHA Project Number 071-10021/071-35743. The property has 500 units comprised of two 25-story high rise towers. The property is in need of rehabilitation to continue as a well-maintained source of affordable housing.

Nature of Requirement: Section 219.220(b) (1995) of FHA's regulations, which governs the repayment of operating assistance provided under the Flexible Subsidy Program for Troubled Projects prior to May 1, 1996, states: “Assistance that has been paid to a project owner under this subpart must be repaid at the earlier of the expiration of the term of the mortgage, termination of these actions would typically terminate FHA involvement with the property, and the Flexible Subsidy loan would be repaid, in whole, at that time.”

Section 219.320 (1995) of FHA's regulation entitled “Loan terms and conditions” will continue to govern the rights and obligations of housing owners, tenants and [HUD] with respect to units and projects assisted under the Flexible Subsidy Program * * *” The regulation applies to capital improvement loans made pursuant to Section 201(k) of the Housing and Community Development Amendments of 1978.

Section 219.335(a) (1995) of FHA's regulation entitled “Operations” provides that interest on the capital improvement loan starts to accrue and the loan amortization period begins when the loan proceeds have been spent.

Granted by: David H. Stevens, Assistant Secretary for Housing—Federal Housing Commissioner.

Date Granted: August 24, 2009.

Reason Waived: This regulatory waiver was granted to preserve this much needed affordable housing. The owners of Lakeview Towers proposed to extend the term for repayment of the Flexible Subsidy loans for 3 years to match the term of the new section 241(a) loan and make capital improvements to the property. These waivers were allowed because, without them, the owner would not have had the necessary funds to perform needed façade repairs and rehabilitation of a portion of the kitchen and bathrooms in the property. Providing these waivers allowed the owner to obtain financing to perform substantial rehabilitation of the property and allow the amortization of the flexible subsidy loan with the new section 241(a) loan.

Contact: Howard D. Mayfield, Deputy Director, Office of Asset Management, Office of Housing, Department of Housing and Urban Development, 451 Seventh Street, SW., Room 6160, Washington, DC 20410-8000, telephone (202) 708-3730.

• Regulation: 24 FR 290.30(a).

Project/Activity: Park Lee Apartments, Phoenix, Arizona—FHA Project Number 123-35418. This insured loan went into default and was assigned to HUD. Waiver of this regulation allowed the City of Phoenix to purchase this defaulted, unsubsidized mortgage loan on a noncompetitive basis.

Nature of Requirement: FHA's regulations governing the sale of HUD-Held mortgages are set forth in 24 CFR part 290, subpart B. Section 290.30(a) of those regulations state that “[e]xcept as otherwise provided in Section 290.31(a)(2), HUD will sell HUD-Held multifamily mortgages on a competitive basis.” Section 290.31(a)(2) permits “negotiated” sales to State or local governments for mortgage loans that are current and secured by subsidized projects, provided such loans are sold with FHA insurance.

Granted by: Brian D. Montgomery, Assistant Secretary for Housing—Federal Housing Commissioner.

Date Granted: July 7, 2009.

Reason Waived: This regulation was waived in order to allow the sale of Park Lee Apartments to the City of Phoenix, thereby preventing foreclosure of the property. The city plans to become the managing member of the current owner entity and work with it to infuse funds to complete rehabilitation, thus making the property an asset to the community and preserving its affordability.

Contact: Howard D. Mayfield, Deputy Director, Office of Asset Management, Office of Housing, Department of Housing and Urban Development, 451 Seventh Street, SW., Room 6160, Washington, DC 20410-8000, telephone (202) 708-3730.

• Regulation: 24 CFR 290.30(a).

Project/Activity: Washington Manor Apartments, Memphis, Tennessee—FHA Project Number 081-35245. This was an unsubsidized project which went into default and was assigned to HUD. The City of Memphis had expressed interest in purchasing the mortgage and alleviating impending foreclosure proceedings.

Nature of Requirement: FHA's regulations governing the sale of HUD-Held mortgages are set forth in 24 CFR part 290, subpart B. Section 290.30(a) of those regulations state that “[e]xcept as otherwise provided in Section 290.31(a)(2), HUD will sell HUD-Held multifamily mortgages on a competitive basis.” Section 290.31(a)(2) permits “negotiated” sales to State or local governments for mortgage loans that are current and secured by subsidized projects, provided such loans are sold with FHA insurance.

Granted by: Brian D. Montgomery, Assistant Secretary for Housing—Federal Housing Commissioner.

Date Granted: July 7, 2009.

Reason Waived: This regulation was waived in order to allow the noncompetitive sale of Washington Manor Apartments to the City of Memphis, thereby preventing foreclosure of the property. Waiver of this requirement would preserve this much needed low income housing resource and reduce the number of loans in the HUD-Held mortgage inventory.

Contact: Howard D. Mayfield, Deputy Director, Office of Asset Management, Office of Housing, Department of Housing and Urban Development, 451 Seventh Street, SW., Room 6160, Washington, DC 20410-8000, telephone (202) 708-3730.

• Regulation: 24 CFR 290.30(a).

Project/Activity: Phyllis Wheatley Apartments, Washington, DC—FHA Project Number 000-35418. This property went into default and was part of the HUD-Held inventory. The District of Columbia DHCD had expressed an interest in purchasing the property. Waiver of this regulation allowed the sale of this delinquent, unsubsidized mortgage to the District of Columbia.

Nature of Requirement: FHA's regulations governing the sale of HUD-Held mortgages are set forth in 24 CFR part 290, subpart B. Section 290.30(a) of those regulations state that “[e]xcept as otherwise provided in Section 290.31(a)(2), HUD will sell HUD-Held multifamily mortgages on a competitive basis.” Section 290.31(a)(2) permits “negotiated” sales to State or local governments for mortgage loans that are current and secured by subsidized projects, provided such loans are sold with FHA insurance.

Granted by: Brian D. Montgomery, Assistant Secretary for Housing—Federal Housing Commissioner.

Date Granted: July 7, 2009.

Reason Waived: This regulation was waived in order to allow the noncompetitive sale of Phyllis Wheatley Apartments to the District of Columbia and prevent foreclosure of the property. Waiver of this requirement would produce budget savings by generating proceeds to the U.S. Treasury and assure that the Phyllis Wheatley facility is transformed into a viable and productive housing facility for eligible occupants in the District of Columbia.

Contact: Howard D. Mayfield, Deputy Director, Office of Asset Management, Office of Housing, Department of Housing and Urban Development, 451 Seventh Street, SW., Room 6160, Washington, DC 20410-8000, telephone (202) 708-3730.

• Regulation: 24 CFR 290.30(a) and 24 CFR 290.35(b)(2).

Project/Activity: John C. Cannon House Apartments, Seattle, Washington. This property went into default and was part of the HUD-Held inventory. The City of Seattle had expressed an interest in purchasing the property. Waiver of this regulation allowed the sale of this delinquent, unsubsidized mortgage to the City of Seattle.

Nature of Requirement: FHA's regulations governing the sale of HUD-Held mortgages are set forth in 24 CFR part 290, subpart B. Section 290.30(a) of those regulations state that “[e]xcept as otherwise provided in Section 290.31(a)(2), HUD will sell HUD-Held multifamily mortgages on a competitive basis.” Section 290.31(a)(2) permits “negotiated” sales to State or local governments for mortgage loans that are current and secured by subsidized projects, provided such loans are sold with FHA insurance.

Section 290.35(b)(2) governs the sale of delinquent mortgages securing subsidized projects, “(1) However, delinquent mortgages will not be sold if: (1) HUD believes that foreclosure is unavoidable; and (2) the project securing the mortgage is occupied by very low-income tenants who are not receiving housing assistance and would be likely to pay rent in excess of 30 percent of their adjusted monthly income if HUD sold the mortgage.”

Granted by: David H. Stevens, Assistant Secretary for Housing-Federal Housing Commissioner.

Date Granted: September 24, 2009.

Reason Waived: This regulation was waived in order to allow the noncompetitive sale of John C. Cannon House Apartments to the City of Seattle. Waiver of this requirement would produce budget savings by generating proceeds to the U.S. Treasury, reduce the number of notes in the HUD-Held mortgage inventory and prevent the loss of assisted living units for families that might take place if a profit-motivated investor were to buy the note and foreclose.

Contact: Howard D. Mayfield, Deputy Director, Office of Asset Management, Office of Housing, Department of Housing and Urban Development, 451 Seventh Street, SW., Room 6160, Washington, DC 20410-8000, telephone (202) 708-3730.

• Regulation: 24 CFR 290.30(a) and 24 CFR 290.33.

Project/Activity: Grove Parc Apartments, Chicago, Illinois—FHA Project Number 071-11091. This property went into default and was part of the HUD-Held inventory. The City of Chicago had expressed an interest in purchasing the property. Waiver of this regulation allowed the sale of this delinquent, unsubsidized mortgage to the City of Chicago.

Nature of Requirement: FHA's regulations governing the sale of HUD-Held mortgages are set forth in 24 CFR part 290, subpart B. Section 290.30(a) of those regulations state that “[e]xcept as otherwise provided in Section 290.31(a)(2), HUD will sell HUD-Held multifamily mortgages on a competitive basis.” Section 290.31(a)(2) permits “negotiated” sales to State or local governments for mortgage loans that are current and secured by subsidized projects, provided such loans are sold with FHA insurance.

Section 290.33 governs the sale of delinquent mortgages securing subsidized projects, only if (a) the mortgages are restructured, and (b) either FHA mortgage insurance or equivalent protections are provided.

Granted by: David H. Stevens, Assistant Secretary for Housing—Federal Housing Commissioner.

Date Granted: September 18, 2009.

Reason Waived: This regulation was waived for Grove Parc Apartments, in order to allow its noncompetitive sale with a restructured, FHA-insured mortgage or with an instrument with equivalent protections provided to the City of Chicago. Waiver of this requirement would produce budget savings by generating proceeds to the U.S. Treasury, reduce the number of notes in the HUD-Held mortgage inventory and prevent the loss of assisted living units for families that might take place if a profit-motivated investor were to buy the note and foreclose.

Contact: Howard D. Mayfield, Deputy Director, Office of Asset Management, Office of Housing, Department of Housing and Urban Development, 451 Seventh Street, SW., Room 6160, Washington, DC 20410-8000, telephone (202) 708-3730.

• Regulation: 24 CFR 290.30(a) and 24 CFR 290.35(b)(2).

Project/Activity: John C. Cannon House Apartments, Seattle, Washington. This property went into default and was part of the HUD-Held inventory. The City of Seattle had expressed an interest in purchasing the property. Waiver of this regulation allowed the sale of this delinquent, unsubsidized mortgage to the City of Seattle.

Nature of Requirement: FHA's regulations governing the sale of HUD-Held mortgages are set forth in 24 CFR part 290, subpart B. Section 290.30(a) of those regulations state that “[e]xcept as otherwise provided in Section 290.31(a)(2), HUD will sell HUD-Held multifamily mortgages on a competitive basis.” Section 290.31(a)(2) permits “negotiated” sales to State or local governments for mortgage loans that are current and secured by subsidized projects, provided such loans are sold with FHA insurance.

Section 290.35(b)(2) governs the sale of delinquent mortgages securing subsidized projects, “(1) However, delinquent mortgages will not be sold if: (1) HUD believes that foreclosure is unavoidable; and (2) the project securing the mortgage is occupied by very low-income tenants who are not receiving housing assistance and would be likely to pay rent in excess of 30 percent of their adjusted monthly income if HUD sold the mortgage.”

Granted by: David H. Stevens, Assistant Secretary for Housing—Federal Housing Commissioner.

Date Granted: September 24, 2009.

Reason Waived: This regulation was waived in order to allow the noncompetitive sale of John C. Cannon House Apartments to the City of Seattle. Waiver of this requirement would produce budget savings by generating proceeds to the U.S. Treasury, reduce the number of notes in the HUD-Held mortgage inventory and prevent the loss of assisted living units for families that might take place if a profit-motivated investor were to buy the note and foreclose.

Contact: Howard D. Mayfield, Deputy Director, Office of Asset Management, Office of Housing, Department of Housing and Urban Development, 451 Seventh Street, SW., Room 6160, Washington, DC 20410-8000, telephone (202) 708-3730.

• Regulation: 24 CFR 883.205(c)(1)(1979).

Project/Activity: Woodside Village, Danville, Virginia—Section 8 Number: VA36-H027-081. This non-insured subsidized property had not undergone significant rehabilitation since it was constructed. Waiver of this regulation allowed for much needed repairs of the property.

Nature of Requirement: HUD's regulation at 883.205(c) concerns adjustments to reflect the actual cost of permanent financing. After the project is permanently financed, the HFA shall submit a certification as to the actual financing terms. Subsection (1) relates to the actual debt service under the permanent financing. If the actual debt service under the permanent financing is lower than the anticipated debt service on which the Contract Rents were based, the initial Contract Rents or the Contract Rents currently in effect shall be reduced commensurately, and the amount of savings shall be credited to the project account.

Granted by: David H. Stevens, Assistant Secretary for Housing—Federal Housing Commissioner.

Date Granted: August 4, 2009.

Reason Waived: This regulation was waived in order to permit the Section 8 contract rents to remain at the current levels in order to allow the owner to obtain financing at a lower interest rate to rehabilitate the property. The proposed rehabilitation is to be funded through Low Income Housing Tax Credits (LIHTC). An affordability use restriction is to accompany an award of the LIHTC, preserving the property as a long-term, well-maintained source of affordable housing.

Contact: Howard D. Mayfield, Deputy Director, Office of Asset Management, Office of Housing, Department of Housing and Urban Development, 451 Seventh Street, SW., Room 6160, Washington, DC 20410-8000, telephone (202) 708-3730.

• Regulation: 24 CFR 883.205(c)(1)(1979).

Project/Activity: Woodside Village, Danville, Virginia—Section 8 Number: VA36-H027-081. This non-insured subsidized property had not undergone significant rehabilitation since it was constructed. Waiver of this regulation allowed for much needed repairs of the property.

Nature of Requirement: HUD's regulation at 883.205(c) concerns adjustments to reflect the actual cost of permanent financing. After the project is permanently financed, the HFA shall submit a certification as to the actual financing terms. Subsection (1) relates to the actual debt service under the permanent financing. If the actual debt service under the permanent financing is lower than the anticipated debt service on which the Contract Rents were based, the initial Contract Rents or the Contract Rents currently in effect shall be reduced commensurately, and the amount of savings shall be credited to the project account.

Granted by: David H. Stevens, Assistant Secretary for Housing—Federal Housing Commissioner.

Date Granted: August 4, 2009.

Reason Waived: This regulation was waived in order to permit the Section 8 contract rents to remain at the current levels in order to allow the owner to obtain financing at a lower interest rate to rehabilitate the property. The proposed rehabilitation is to be funded through Low Income Housing Tax Credits (LIHTC). An affordability use restriction is to accompany an award of the LIHTC, preserving the property as a long-term, well-maintained source of affordable housing.

Contact: Howard D. Mayfield, Deputy Director, Office of Asset Management, Office of Housing, Department of Housing and Urban Development, 451 Seventh Street, SW., Room 6160, Washington, DC 20410-8000, telephone (202) 708-3730.

• Regulation: 24 CFR 891.100(d).

Project/Activity: TELACU Housing La Amistad Senior Apartments, San Bernardino, CA, Project Number: 143-EE063/CA43-S061-002.

Nature of Requirement: Section 891.100(d) prohibits amendment of the amount of the approved capital advance funds prior to initial closing.

Granted by: David H. Stevens, Assistant Secretary for Housing—Federal Housing Commissioner.

Date Granted: July 17, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: Casitas on East Broadway, Tucson, AZ, Project Number: 123-EE104/AZ20-S061-010.

Nature of Requirement: Section 891.100(d) prohibits amendment of the amount of the approved capital advance funds prior to closing.

Granted by: David H. Stevens, Assistant Secretary for Housing—Federal Housing Commissioner.

Date Granted: July 17, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: Harshfield Terrace, Quartz Hill, CA, Project Number: 122-EE195/CA16-S041-005.

Nature of Requirement: Section 891.100(d) prohibits amendment of the amount of the approved capital advance funds prior to closing.

Granted by: David H. Stevens, Assistant Secretary for Housing—Federal Housing Commissioner.

Date Granted: July 17, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: TBD, Tucson, AZ, Project Number: 062-HD066/AL09-Q071-002.

Nature of Requirement: Section 891.100(d) prohibits amendment of the amount of the approved capital advance funds prior to closing.

Granted by: David H. Stevens, Assistant Secretary for Housing—Federal Housing Commissioner.

Date Granted: July 21, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: Woodridge Apartments Annex, Greeneville, TN, Project Number: 087-EE065/TN37-S081-002.

Nature of Requirement: Section 891.100(d) prohibits amendment of the amount of the approved capital advance funds prior to closing.

Granted by: David H. Stevens, Assistant Secretary for Housing—Federal Housing Commissioner.

Date Granted: July 21, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: Homes of Care III, Groveland, MA, Project Number: 023-HD227/MA06-Q071-001.

Nature of Requirement: Section 891.100(d) prohibits amendment of the amount of the approved capital advance funds prior to closing.

Granted by: David H. Stevens, Assistant Secretary for Housing—Federal Housing Commissioner.

Date Granted: July 22, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: Gloucester Housing, Gloucester, MA, Project Number: 023-HD228/MA06-Q071-002.

Nature of Requirement: Section 891.100(d) prohibits amendment of the amount of the approved capital advance funds prior to closing.

Granted by: David H. Stevens, Assistant Secretary for Housing—Federal Housing Commissioner.

Date Granted: July 22, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: Folsom Oaks, Folsom, CA, Project Number: 136-HD017/CA30-Q041-001.

Nature of Requirement: Section 891.100(d) prohibits amendment of the amount of the approved capital advance funds prior to closing.

Granted by: David H. Stevens, Assistant Secretary for Housing—Federal Housing Commissioner.

Date Granted: August 6, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: TELACU Hacienda Senior Apartments, San Bernardino, CA, Project Number: 143-EE068/CA43-S071-003.

Nature of Requirement: Section 891.100(d) prohibits amendment of the amount of the approved capital advance funds prior to closing.

Granted by: David H. Stevens, Assistant Secretary for Housing—Federal Housing Commissioner.

Date Granted: August 6, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: Vantage Court Senior Housing, Homestead, PA, Project Number: 033-EE132/PA28-S071-004.

Nature of Requirement: Section 891.100(d) prohibits amendment of the amount of the approved capital advance funds prior to closing.

Granted by: David H. Stevens, Assistant Secretary for Housing—Federal Housing Commissioner.

Date Granted: August 7, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: AHEPA 310 XII, Daphne, AL, Project Number: 062-EE089/AL09-S081-003.

Nature of Requirement: Section 891.100(d) prohibits amendment of the amount of the approved capital advance funds prior to closing.

Granted by: David H. Stevens, Assistant Secretary for Housing—Federal Housing Commissioner.

Date Granted: August 7, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: Ferriday Haven, Ferriday, LA, Project Number: 064-HD108/LA48-Q061-007.

Nature of Requirement: Section 891.100(d) prohibits amendment of the amount of the approved capital advance funds prior to closing.

Granted by: David H. Stevens, Assistant Secretary for Housing—Federal Housing Commissioner.

Date Granted: August 21, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: Tartan Village II, Kilmarnock, VA, Project Number: 051-EE111/VA36-S051-004.

Nature of Requirement: Section 891.100(d) prohibits amendment of the amount of the approved capital advance funds prior to closing.

Granted by: David H. Stevens, Assistant Secretary for Housing—Federal Housing Commissioner.

Date Granted: August 21, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: St. Joseph Place, Kansas City, MO, Project Number: 084-EE073/MO16-Q071-002.

Nature of Requirement: Section 891.100(d) prohibits amendment of the amount of the approved capital advance funds prior to closing.

Granted by: David H. Stevens, Assistant Secretary for Housing—Federal Housing Commissioner.

Date Granted: August 28, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: Townsend Woods, Townsend, MA, Project Number: 023-EE218/MA06-S071-008.

Nature of Requirement: Section 891.100(d) prohibits amendment of the amount of the approved capital advance funds prior to closing.

Granted by: David H. Stevens, Assistant Secretary for Housing—Federal Housing Commissioner.

Date Granted: August 31, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: Parham House, Vista, CA, Project Number: 129-HD031/CA33-Q061-001.

Nature of Requirement: Section 891.100(d) prohibits amendment of the amount of the approved capital advance funds prior to closing.

Granted by: David H. Stevens, Assistant Secretary for Housing—Federal Housing Commissioner.

Date Granted: September 21, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: Trenton VOA Housing, Trenton, GA, Project Number: 061-HD109/GA06-Q071-005.

Nature of Requirement: Section 891.100(d) prohibits amendment of the amount of the approved capital advance funds prior to closing.

Granted by: David H. Stevens, Assistant Secretary for Housing—Federal Housing Commissioner.

Date Granted: August 19, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: Wiggins VOA Senior Housing, Incorporated, Wiggins MS, Project Number: 065-EE050/MS26-S081-001.

Nature of Requirement: Section 891.100(d) prohibits amendment of the amount of the approved capital advance funds prior to closing.

Granted by: David H. Stevens, Assistant Secretary for Housing—Federal Housing Commissioner.

Date Granted: August 19, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: Sierra Meadows, Visalia, CA, Project Number: 121-EE199/CA39-S071-003.

Nature of Requirement: Section 891.100(d) prohibits amendment of the amount of the approved capital advance funds prior to closing.

Granted by: David H. Stevens, Assistant Secretary for Housing—Federal Housing Commissioner.

Date Granted: August 21, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: Wood Lane Residential, Bowling Green, OH, Project Number: 042-HD151/OH12-Q071-006.

Nature of Requirement: Section 891.100(d) prohibits amendment of the amount of the approved capital advance funds prior to closing.

Granted by: David H. Stevens, Assistant Secretary for Housing—Federal Housing Commissioner.

Date Granted: September 4, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: Discovery Place, Brigham, UT, Project Number: 105-HD012/UT99-Q061-001.

Nature of Requirement: Section 891.100(d) prohibits amendment of the amount of the approved capital advance funds prior to closing.

Granted by: David H. Stevens, Assistant Secretary for Housing—Federal Housing Commissioner.

Date Granted: September 24, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: AHEPA—New Orleans, New Orleans, LA, Project Number: 064-EE221/LA48-S071-009.

Nature of Requirement: Section 891.100(d) prohibits amendment of the amount of the approved capital advance funds prior to closing.

Granted by: David H. Stevens, Assistant Secretary for Housing—Federal Housing Commissioner.

Date Granted: September 28, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: Options Supported Housing XIV, Lake Ronkonkoma, NY, Project Number: 012-HD139/NY36-Q081-001.

Nature of Requirement: Section 891.100(d) prohibits amendment of the amount of the approved capital advance funds prior to closing.

Granted by: David H. Stevens, Assistant Secretary for Housing—Federal Housing Commissioner.

Date Granted: September 28, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d).

Project/Activity: Wood Lane Residential, Bowling Green, OH, Project Number: 042-HD151/OH12-Q071-006.

Nature of Requirement: Section 891.100(d) prohibits amendment of the amount of the approved capital advance funds prior to closing.

Granted by: David H. Stevens, Assistant Secretary for Housing—Federal Housing Commissioner.

Date Granted: September 30, 2009.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6130, Washington, DC 20410-8000, telephone (202) 708-3000.

• Regulation: 24 CFR 891.100(d) and 24 CFR 891.165.

Project/Activity: Dona Petra Santiago Apartments, New York, NY, Project Number: 012-EE267/NY36-S091-007.

Nature of Requirement: Section 891.100(d) prohibits amendment of the amount of the approved capital advance funds prior to closing. Section 891.165 provides that the duration of the fund reservation of the capital advance is 18 months from the date of issuance with limited exceptions up to 24 months, as approved by HUD on a case-by-case basis.

Granted by: David H. Stevens, Assistant Secretary for Housing—Federal Housing Commissioner.

Date Granted: August 19, 2009.

Reason Waived: The project is economically designed and comparable in cost to similar projects in the area, and the sponsor/owner exhausted all efforts to obtain additional funding from other sources. Additional time was needed to achieve an initial closing.

Contact: Willie Spearmon, Director, Office of Housing Assistance and Grant Administration, Office of Housing, Department of Housing and Urban Development, 451 Seventh Street, SW., Room 6130, Washington, DC 20410-8000, telephone (202) 708-3000.

• Regulation: 24 CFR 891.100(d) and 24 CFR 891.165.

Project/Activity: Odd Fellows Senior Housing, Bronx York, NY, Project Number: 012-EE351/NY36-S061-007.

Nature of Requirement: Section 891.100(d) prohibits amendment of the amount of the approved capital advance funds prior to closing. Section 891.165 provides that the duration of the fund reservation of the capital advance is 18 months from the date of issuance with limited exceptions up to 24 months, as approved by HUD on a case-by-case basis.

Granted by: David H. Stevens, Assistant Secretary for Housing—Federal Housing Commissioner.

Date Granted: August 21, 2009.

Reason Waived: The project is economically designed and comparable in cost to similar projects in the area, and the sponsor/owner exhausted all efforts to obtain additional funding from other sources. Additional time was needed to achieve an initial closing.

Contact: Willie Spearmon, Director, Office of Housing Assistance and Grant Administration, Office of Housing, Department of Housing and Urban Development, 451 Seventh Street, SW., Room 6130, Washington, DC 20410-8000, telephone (202) 708-3000.

• Regulation: 24 CFR 891.100(d) and 24 CFR 891.165.

Project/Activity: Denver VOA Living Center, Denver, CO, Project Number: 101-HD040/CO99-Q051-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: David H. Stevens, Assistant Secretary for Housing—Federal Housing Commissioner.

Date Granted: July 17, 2009.

Reason Waived: The project is economically designed and comparable in cost to similar projects in the area, and the sponsor/owner exhausted all efforts to obtain additional funding from other sources. Additional time was needed for the firm commitment to be issued and for the project to be initially closed.

Contact: Willie Spearmon, Director, Office of Housing Assistance and Grant Administration, Office of Housing, Department of Housing and Urban Development, 451 Seventh Street, SW., Room 6130, Washington, DC 20410-8000, telephone (202) 708-3000.

• Regulation: 24 CFR 891.100(d) and 24 CFR 891.165.

Project/Activity: Council Towers V, Bronx, NY, Project Number: 012-EE337/NY36-S061-003.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: David H. Stevens, Assistant Secretary for Housing—Federal Housing Commissioner.

Date Granted: August 25, 2009.

Reason Waived: The project is economically designed and comparable in cost to similar projects in the area, and the sponsor/owner exhausted all efforts to obtain additional funding from other sources. Additional time was needed to achieve an initial closing of the project.

Contact: Willie Spearmon, Director, Office of Housing Assistance and Grant Administration, Office of Housing, Department of Housing and Urban Development, 451 Seventh Street, SW., Room 6130, Washington, DC 20410-8000, telephone (202) 708-3000.

• Regulation: 24 CFR 891.165.

Project/Activity: Yabucoa Volunteers of America Elderly Housing, Yabucoa, PR, Project Number: 056-EE064/RQ46-S041-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: July 17, 2009.

Reason Waived: Additional time was needed for the firm commitment to be issued and for the project to be initially closed.

Contact: Willie Spearmon, Director, Office of Housing Assistance and Grant Administration, Office of Housing, Department of Housing and Urban Development, 451 Seventh Street, SW., Room 6130, Washington, DC 20410-8000, telephone (202) 708-3000.

• Regulation: 24 CFR 891.165.

Project/Activity: Accessible Space, Inc., Mesa, AZ, Project Number: 123-HD041/AZ20-Q061-003.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: July 17, 2009.

Reason Waived: The sponsor/owner needed additional time to obtain a new contractor, resubmit the firm commitment application, and for the project to be initially closed.

Contact: Willie Spearmon, Director, Office of Housing Assistance and Grant Administration, Office of Housing, Department of Housing and Urban Development, 451 Seventh Street, SW., Room 6130, Washington, DC 20410-8000, telephone (202) 708-3000.

• Regulation: 24 CFR 891.165.

Project/Activity: Mulberry Manor, Wayne, WV, Project Number: 045-HD041/WV15-Q051-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: July 17, 2009.

Reason Waived: The sponsor/owner needed additional time to secure secondary financing, for the firm commitment to be issued and for the project to be initially closed.

Contact: Willie Spearmon, Director, Office of Housing Assistance and Grant Administration, Office of Housing, Department of Housing and Urban Development, 451 Seventh Street, SW., Room 6130, Washington, DC 20410-8000, telephone (202) 708-3000.

• Regulation: 24 CFR 891.165.

Project/Activity: Sierra Manor II, Reno, NV, Project Number: 125-EE129/NV25-S061-003.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: July 21, 2009.

Reason Waived: Additional time was needed for the sponsor/owner's architect sufficient time to complete the redesign of the project and to obtain necessary approvals on the redesign from the City of Reno and for the project to be initially closed.

Contact: Willie Spearmon, Director, Office of Housing Assistance and Grant Administration, Office of Housing, Department of Housing and Urban Development, 451 Seventh Street, SW., Room 6130, Washington, DC 20410-8000, telephone (202) 708-3000.

• Regulation: 24 CFR 891.165.

Project/Activity: Shillman House, Framingham, MA, Project Number: 023-EE187/MA06-S051-004.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: September 8, 2009.

Reason Waived: Additional time was needed for the sponsor/owner to allow HUD's processing of the revised firm commitment application, and for the project to reach initial closing.

Contact: Willie Spearmon, Director, Office of Housing Assistance and Grant Administration, Office of Housing, Department of Housing and Urban Development, 451 Seventh Street, SW., Room 6130, Washington, DC 20410-8000, telephone (202) 708-3000.

• Regulation: 24 CFR 891.165.

Project/Activity: Transitional Services for New York, New York, NY, Project Number: 012-HD128/NY36-Q051-002.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: July 1, 2009.

Reason Waived: Additional time was needed for the project to be initially closed.

Contact: Willie Spearmon, Director, Office of Housing Assistance and Grant Administration, Office of Housing, Department of Housing and Urban Development, 451 Seventh Street, SW., Room 6130, Washington, DC 20410-8000, telephone (202) 708-3000.

• Regulation: 24 CFR 891.165.

Project/Activity: Arbor Court, Fresno, CA, Project Number: 121-HD083/CA39-Q041-003.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: July 1, 2009.

Reason Waived: Additional time was needed for the sponsor/owner to obtain an increase in local funding and for the project to be initially closed.

Contact: Willie Spearmon, Director, Office of Housing Assistance and Grant Administration, Office of Housing, Department of Housing and Urban Development, 451 Seventh Street, SW., Room 6130, Washington, DC 20410-8000, telephone (202) 708-3000.

• Regulation: 24 CFR 891.165.

Project/Activity: Jackson Road Group Home (fka Jackson Street Group Home), Somerville, MA, Project Number: 023-HD193/MA06-Q031-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: August 6, 2009.

Reason Waived: Additional time was needed for the State agency to finalize the commitment of funds, resubmit the firm commitment application and for the project to be initially closed.

Contact: Willie Spearmon, Director, Office of Housing Assistance and Grant Administration, Office of Housing, Department of Housing and Urban Development, 451 Seventh Street, SW., Room 6130, Washington, DC 20410-8000, telephone (202) 708-3000.

• Regulation: 24 CFR 891.165.

Project/Activity: Desert Sol, Phoenix, AZ, Project Number: 123-HD040/AZ20-Q061-002.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: September 4, 2009.

Reason Waived: Additional time was needed for the sponsor/owner to finalize the initial/final closing documents and for the project to be initially closed.

Contact: Willie Spearmon, Director, Office of Housing Assistance and Grant Administration, Office of Housing, Department of Housing and Urban Development, 451 Seventh Street, SW., Room 6130, Washington, DC 20410-8000, telephone (202) 708-3000.

• Regulation: 24 CFR 891.165.

Project/Activity: Casa Del Pueblo II (aka Pueblo Senior Housing), Tucson, AZ, Project Number: 123-EE103/AZ20-S061-009.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: September 28, 2009.

Reason Waived: Additional time was needed for the sponsor/owner to finalize the initial closing documents and for the project to reach initial closing.

Contact: Willie Spearmon, Director, Office of Housing Assistance and Grant Administration, Office of Housing, Department of Housing and Urban Development, 451 Seventh Street, SW., Washington, DC 20410-8000, telephone (202) 708-3000.

• Regulation: 24 CFR 891.165.

Project/Activity: Lil Jackson Senior Housing, Oceanside, CA, Project Number: 129-EE032/CA33-S051-001.

Nature of Requirement: Section 891.165 provides that the duration of the fund reservation of the capital advance is 18 months from the date of issuance with limited exceptions up to 24 months, as approved by HUD on a case-by-case basis.

Granted by: David H. Stevens, Assistant Secretary for Housing—Federal Housing Commissioner.

Date Granted: September 29, 2009.

Reason Waived: Additional time was needed for the City of Oceanside to complete the recordation of the parcel map for the site and for the project to be closed.

Contact: Willie Spearmon, Director, Office of Housing Assistance and Grant Administration, Office of Housing, Department of Housing and Urban Development, 451 Seventh Street, SW., Room 6130, Washington, DC 20410-8000, telephone (202) 708-3000.

III. Regulatory Waivers Granted by the Office of Public and Indian Housing

For further information about the following regulatory waivers, please see the name of the contact person that immediately follows the description of the waiver granted.

• Regulation: 24 CFR 5.801 (d) (1).

Project/Activity: Housing Authority of the City of Long Branch, (NJ008), Long Branch, NJ.

Nature of Requirement: The regulation establishes certain reporting compliance dates. The audited financial statements are required to be submitted to the Real Estate Assessment Center (REAC) no later than nine months after the housing authority's (HA) fiscal year end (FYE), in accordance with the Single Audit Act and OMB Circular A-133.

Granted by: Sandra B. Henriquez, General Deputy Assistant Secretary for Public and Indian Housing.

Date Granted: July 16, 2009.

Reason Waived: The HA waiver request stated that the auditor would not be able to complete the audit by the due date as a result of a delay in conversion to asset management. The HA indicated that the auditors were in the process of finalizing the audit. The waiver was granted and the HA was to submit its audited financial data for FYE June 30, 2008, no later than July 17, 2009.

Contact: Myra E. Newbill, Program Manager, NASS, Real Estate Assessment Center, Office of Public and Indian Housing, Department of Housing and Urban Development, 550 12th Street, SW., Suite 100, Washington, DC 20410-5000, telephone (202) 475-8988.

• Regulation: 24 CFR 941.102(a)(2)-(3) and 941.403(b).

Project/Activity: Newark Housing Authority (NHA), Newark, NJ, Scattered Sites, Project Number NJ39-P002-053.

Nature of Requirement: This waiver involves the substantial completion requirement for release of the original purchase money and the proposition to finish the project pursuant to a development plan which does not comply completely with either the regulatory turnkey or acquisition method of public housing development.

Granted by: Sandra B. Henriquez, Assistant Secretary for Public and Indian Housing.

Date Granted: September 28, 2009.

Reason Waived: Good cause was determined to conditionally approve the waivers in order for the settlement process to proceed for the action filed on June 26, 2008 in the United States District Court of New Jersey by Tony Gomes Construction Company naming NHA, the former Secretary Steven Preston, and the Department as defendants.

Contact: Dominique Blom, Deputy Assistant Secretary for the Office of Public Housing Investments, Office of Public and Indian Housing, Department of Housing and Urban Development, 451 Seventh Street, SW., Washington, DC 20140-5000, Room 4130, telephone (202) 402-4181.

• Regulation: 24 CFR 941.306(b) and (c).

Project/Activity: Barclay Redevelopment Phase I (formerly West Park), Housing Authority of the City of Bremerton Public Housing Construction, Bremerton, WA.

Nature of Requirement: Waiver of Total Development Cost (TDC) and Housing Construction Cost (HCC) Limits.

Granted by: Sandra B. Henriquez, Assistant Secretary of Public and Indian Housing.

Date Granted: September 3, 2009.

Reason Waived: A waiver of TDC/HCC limits is allowed under the American Recovery and Reinvestment Act (ARRA) and in the Notice of Funding Availability (NOFA) for the Capital Fund Recovery Competition Grants (CFRC) for the use of ARRA funds in the redevelopment of public housing units.

Contact: Dominique Blom, Deputy Assistant Secretary for the Office of Public Housing Investments, Office of Public and Indian Housing, Department of Housing and Urban Development, 451 Seventh Street, SW., Washington, DC 20140-5000, Room 4130, telephone (202) 402-4181.

• Regulation: 24 CFR 941.306(b) and (c).

Project/Activity: West End Phase II, Chicago Housing Authority Public Housing Construction, Chicago, IL.

Nature of Requirement: Waiver of Total Development Cost (TDC) and Housing Construction Cost (HCC) Limits.

Granted by: Sandra B. Henriquez, Assistant Secretary of Public and Indian Housing.

Date Granted: September 16, 2009.

Reason Waived: A waiver of TDC/HCC limits is allowed under the American Recovery and Reinvestment Act (ARRA) and in the Notice of Funding Availability (NOFA) for the Capital Fund Recovery Competition Grants (CFRC) for the use of ARRA funds in the redevelopment of public housing units.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.306(b) and (c).

Project/Activity: Arlington Grove, St. Louis Housing Authority Public Housing Construction, St. Louis, MO.

Nature of Requirement: Waiver of Total Development Cost (TDC) and Housing Construction Cost (HCC) Limits.

Granted by: Sandra B. Henriquez, Assistant Secretary of Public and Indian Housing.

Date Granted: September 16, 2009.

Reason Waived: A waiver of TDC/HCC limits is allowed under the American Recovery and Reinvestment Act (ARRA) and in the Notice of Funding Availability (NOFA) for the Capital Fund Recovery Competition Grants (CFRC) for the use of ARRA funds in the redevelopment of public housing units.

Contact: Dominique Blom, Deputy Assistant Secretary for the Office of Public Housing Investments, Office of Public and Indian Housing, Department of Housing and Urban Development, 451 Seventh Street, SW., Washington, DC 20140-5000, Room 4130, telephone (202) 402-4181.

• Regulation: 24 CFR 941.306(b) and (c).

Project/Activity: Baxtor Terrace, Housing Authority of the City of Newark, Public Housing Construction, Newark, NJ.

Nature of Requirement: Waiver of Total Development Cost (TDC) and Housing Construction Cost (HCC) Limits.

Granted by: Sandra B. Henriquez, Assistant Secretary of Public and Indian Housing.

Date Granted: September 16, 2009.

Reason Waived: A waiver of TDC/HCC limits is allowed under the American Recovery Reinvestment Act (ARRA) and in the Notice of Funding Availability (NOFA) for the Capital Fund Recovery Competition Grants (CFRC) for the use of ARRA funds in the redevelopment of public housing units.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.306(b) and (c).

Project/Activity: Legends Park West (formerly Dixie Homes), Memphis Housing Authority Public Housing Construction, Memphis, TN.

Nature of Requirement: Waiver of Total Development Cost (TDC) and Housing Construction Cost (HCC) Limits.

Granted by: Sandra B. Henriquez, Assistant Secretary of Public and Indian Housing.

Date Granted: September 16, 2009.

Reason Waived: A waiver of TDC/HCC limits is allowed under the American Recovery and Reinvestment Act (ARRA) and in the Notice of Funding Availability (NOFA) for the Capital Fund Recovery Competition Grants (CFRC) for the use of ARRA funds in the redevelopment of public housing units.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.306(b) and (c).

Project/Activity: Lake City Village Apartments, Seattle Housing Authority Public Housing Construction, Seattle, WA.

Nature of Requirement: Waiver of Total Development Cost (TDC) and Housing Construction Cost (HCC) Limits.

Granted by: Sandra B. Henriquez, Assistant Secretary of Public and Indian Housing.

Date Granted: September 16, 2009.

Reason Waived: A waiver of TDC/HCC limits is allowed under the American Recovery and Reinvestment Act (ARRA) and in the Notice of Funding Availability (NOFA) for the Capital Fund Recovery Competition Grants (CFRC) for the use of ARRA funds in the redevelopment of public housing units.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.306(b) and (c).

Project/Activity: Reid Street Homes, Housing Authority of Charleston Public Housing Construction, Charleston, SC.

Nature of Requirement: Waiver of Total Development Cost (TDC) and Housing Construction Cost (HCC) Limits.

Granted by: Sandra B. Henriquez, Assistant Secretary of Public and Indian Housing.

Date Granted: September 16, 2009.

Reason Waived: A waiver of TDC/HCC limits is allowed under the American Recovery and Reinvestment Act (ARRA) and in the Notice of Funding Availability (NOFA) for the Capital Fund Recovery Competition Grants (CFRC) for the use of ARRA funds in the redevelopment of public housing units.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.306(b) and (c).

Project/Activity: First Street Senior Housing, Elizabeth Housing Authority Public Housing Construction, Elizabeth, NJ.

Nature of Requirement: Waiver of Total Development Cost (TDC) and Housing Construction Cost (HCC) Limits.

Granted by: Sandra B. Henriquez, Assistant Secretary of Public and Indian Housing.

Date Granted: September 16, 2009.

Reason Waived: A waiver of TDC/HCC limits is allowed under the American Recovery and Reinvestment Act (ARRA) and in the Notice of Funding Availability (NOFA) for the Capital Fund Recovery Competition Grants (CFRC) for the use of ARRA funds in the redevelopment of public housing units.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.306(b) and (c).

Project/Activity: Fairmount Avenue Scattered Sites, Chattanooga Housing Authority Public Housing Construction, Chattanooga, TN.

Nature of Requirement: Waiver of Total Development Cost (TDC) and Housing Construction Cost (HCC) Limits.

Granted by: Sandra B. Henriquez, Assistant Secretary of Public and Indian Housing.

Date Granted: September 16, 2009.

Reason Waived: A waiver of TDC/HCC limits is allowed under the American Recovery and Reinvestment Act (ARRA) and in the Notice of Funding Availability (NOFA) for the Capital Fund Recovery Competition Grants (CFRC) for the use of ARRA funds in the redevelopment of public housing units.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.306(b) and (c).

Project/Activity: Senior Housing at Heritage Park, Minneapolis Public Housing Authority Public Housing Construction, Minneapolis, MN.

Nature of Requirement: Waiver of Total Development Cost (TDC) and Housing Construction Cost (HCC) Limits.

Granted by: Sandra B. Henriquez, Assistant Secretary of Public and Indian Housing.

Date Granted: September 16, 2009.

Reason Waived: A waiver of TDC/HCC limits is allowed under the American Recovery and Reinvestment Act (ARRA) and in the Notice of Funding Availability (NOFA) for the Capital Fund Recovery Competition Grants (CFRC) for the use of ARRA funds in the redevelopment of public housing units.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.306(b) and (c).

Project/Activity: Old Colony, Boston Housing Authority Public Housing Construction, Boston, MA.

Nature of Requirement: Waiver of Total Development Cost (TDC) and Housing Construction Cost (HCC) Limits.

Granted by: Sandra B. Henriquez, Assistant Secretary of Public and Indian Housing.

Date Granted: September 16, 2009.

Reason Waived: A waiver of TDC/HCC limits is allowed under the American Recovery and Reinvestment Act (ARRA) and in the Notice of Funding Availability (NOFA) for the Capital Fund Recovery Competition Grants (CFRC) for the use of ARRA funds in the redevelopment of public housing units.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.306(b) and (c).

Project/Activity: Echo Ridge, Topeka Housing Authority Public Housing Construction, Topeka, KS.

Nature of Requirement: Waiver of Total Development Cost (TDC) and Housing Construction Cost (HCC) Limits.

Granted by: Sandra B. Henriquez, Assistant Secretary of Public and Indian Housing.

Date Granted: September 16, 2009.

Reason Waived: A waiver of TDC/HCC limits is allowed under the American Recovery and Reinvestment Act (ARRA) and in the Notice of Funding Availability (NOFA) for the Capital Fund Recovery Competition Grants (CFRC) for the use of ARRA funds in the redevelopment of public housing units.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.306(b) and (c).

Project/Activity: Garden Valley Phase III, Cuyahoga Metropolitan Housing Authority Public Housing Construction, Cleveland, OH.

Nature of Requirement: Waiver of Total Development Cost (TDC) and Housing Construction Cost (HCC) Limits.

Granted by: Sandra B. Henriquez, Assistant Secretary of Public and Indian Housing.

Date Granted: September 16, 2009.

Reason Waived: A waiver of TDC/HCC limits is allowed under the American Recovery and Reinvestment Act (ARRA) and in the Notice of Funding Availability (NOFA) for the Capital Fund Recovery Competition Grants (CFRC) for the use of ARRA funds in the redevelopment of public housing units.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.306(b) and (c).

Project/Activity: Phase IIC of Scott/Carver Homes, Miami-Dade Public Housing Authority Public Housing Construction, Miami, FL.

Nature of Requirement: Waiver of Total Development Cost (TDC) and Housing Construction Cost (HCC) Limits.

Granted by: Sandra B. Henriquez, Assistant Secretary of Public and Indian Housing.

Date Granted: September 16, 2009.

Reason Waived: A waiver of TDC/HCC limits is allowed under the American Recovery and Reinvestment Act (ARRA) and in the Notice of Funding Availability (NOFA) for the Capital Fund Recovery Competition Grants (CFRC) for the use of ARRA funds in the redevelopment of public housing units.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.606(n)(1)(ii).

Project/Activity: High Point Housing Authority, Clara Cox Homes Apartments, High Point, NC.

Nature of Requirement: This regulatory provision requires that if the partner and/or owner entity (or any other entity with an identity of interest with such parties) wants to serve as a general contractor for the project or development, it may award itself the construction contract only if it can demonstrate to HUD's satisfaction that its bid is the lowest submitted in response to a public request for bids.

Granted by: Sandra B. Henriquez, Assistant Secretary for Public and Indian Housing.

Date Granted: July 31, 2009.

Reason Waived: The High Point Housing Authority (HPHA) submitted an independent cost estimate prepared by Willis Construction Consulting, Inc. for Clara Cox which totaled $7,994,982. HPHA also submitted the construction contract between Crosland Inc. and Crosland Contractors which totaled $7,677,982. As cost was below that of the independent cost estimates, HUD's condition was satisfied.

Contact: Dominique Blom, Deputy Assistant Secretary for the Office of Public Housing Investments, Office of Public and Indian Housing, Department of Housing and Urban Development, 451 Seventh Street, SW., Washington, DC 20140-5000, Room 4130, telephone (202) 402-4181.

• Regulation: 24 CFR 941.610(a)(1)-(a)(7).

Project/Activity: Housing Authority of the City of Camden's (HACC), Camden, NJ. The closing of Roosevelt Manor, a HOPE VI Phase 9-10 mixed-finance project, consisting of the development of 89 family rental units on off-site parcels adjacent to and nearby the former Roosevelt Manor public housing site.

Nature of Requirement: Section 941.610(a)(1)-(a)(7) of HUD's regulation requires HUD review and approval of certain legal documents relating to mixed-finance development before a closing can occur and funds can be released. In lieu of HUD's review, and before funds can be released, HACC must submit documentation, which certifies to the accuracy and authenticity of the legal documents detailed in 941.610(a)(1)-(a)(7), the form of the certification to be specified by HUD. In addition, HACC must execute the Declaration of Restrictive Covenants, in standard form, and provide evidence that it is the first recorded document.

Granted by: Sandra B. Henriquez, Assistant Secretary for Public and Indian Housing.

Date Granted: September 23, 2009.

Reason Waived: Granting a waiver of HUD's review and allowing HACC to certify to the validity of certain legal documents was determined to streamline the review process and therefore expedite closing and public housing production.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.610(a)(1)-(a)(7).

Project/Activity: Closing of the Olga Village Mixed-Finance Project of the Housing Authority of the City of Milwaukee (HACM) in Wisconsin.

Nature of Requirement: Section 941.610(a)(1)-(a)(7) of HUD's regulations requires HUD review and approval of certain legal documents relating to mixed-finance development before a closing can occur and public housing funds can be released. In lieu of HUD's review of these documents, SAHA must submit certifications to the accuracy and authenticity of the legal documents detailed in 24 CFR 941.610(a)(1)-(a)(7).

Granted by: Sandra B. Henriquez, Assistant Secretary for Public and Indian Housing.

Date Granted: August 27, 2009.

Reason Waived: Granting a waiver of HUD's review and allowing HACM to certify to the validity of certain legal documents was determined to streamline the review process and therefore expedite closing and public housing production.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 982.503(d) and 982.505(c)(3).

Project/Activity: Omaha Housing Authority (OHA), Omaha, NE.

Nature of Requirement: HUD's regulation at 24 CFR 982.503(d) provides that HUD may consider and approve a PHA's establishment of a payment standard lower than the basic range, but that HUD will not approve a lower payment standard if the family share for more than 40 percent of participants in the PHA's Housing Choice Voucher program exceeds 30 percent of adjusted monthly income. The regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 5, 2009.

Reason Waived: These waivers were granted because these cost-saving measures would enable OHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.503(d) and 982.505(c)(3).

Project/Activity: Housing Authority of the City of Columbus (HACC), Columbus, IN.

Nature of Requirement: HUD's regulation at 24 CFR 982.503(d) provides that HUD may consider and approve a PHA's establishment of a payment standard lower than the basic range, but that HUD will not approve a lower payment standard if the family share for more than 40 percent of participants in the PHA's Housing Choice Voucher program exceeds 30 percent of adjusted monthly income. The regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 7, 2009.

Reason Waived: These waivers were granted because these cost-saving measures would enable HACC to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.503(d) and 982.505(c)(3).

Project/Activity: Housing Authority of the County of Riverside (HACR), Riverside, CA.

Nature of Requirement: HUD's regulation at 24 CFR 982.503(d) provides that HUD may consider and approve a PHA's establishment of a payment standard lower than the basic range, but that HUD will not approve a lower payment standard if the family share for more than 40 percent of participants in the PHA's Housing Choice Voucher program exceeds 30 percent of adjusted monthly income. The regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 7, 2009.

Reason Waived: These waivers were granted because these cost-saving measures would enable HACR to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: New Hampshire Housing Finance Authority (NHHFA), Manchester, NH.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 2, 2009.

Reason Waived: This waiver was granted because this cost-saving measure would enable NHHFA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Northwest Oregon Housing Authority (NOHA), Warrenton, OR.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 2, 2009.

Reason Waived: This waiver was granted because this cost-saving measure would enable NOHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of Winston-Salem (HAWS), Winston-Salem, NC.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 2, 2009.

Reason Waived: This waiver was granted because this cost-saving measure would enable HAWS to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Queen Anne's County Housing Authority (QACHA), Queen Anne's County, MD.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 2, 2009.

Reason Waived: This waiver was granted because this cost-saving measure would enable QACHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Walla Walla Housing Authority (WWHA), Walla Walla, WA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 2, 2009.

Reason Waived: This waiver was granted because this cost-saving measure would enable WWHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Ada County Housing Authority (ACHA), Boise, ID.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 13, 2009.

Reason Waived: This waiver was granted because this cost-saving measure would enable ACHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Boerne Housing Authority (BHA), Boerne, TX.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 13, 2009.

Reason Waived: This waiver was granted because this cost-saving measure would enable BHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Dolgeville Housing Authority (DHA), Dolgeville, NY.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 13, 2009.

Reason Waived: This waiver was granted because this cost-saving measure would enable DHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Hartford Community Development Authority (HCDA), Hartford, WI.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 13, 2009.

Reason Waived: This waiver was granted because this cost-saving measure would enable HCDA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the County of Kern (HACK), Bakersfield, CA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 13, 2009.

Reason Waived: This waiver was granted because this cost-saving measure would enable HACK to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Marion County Housing Authority (MCHA), Salem, OR.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 13, 2009.

Reason Waived: This waiver was granted because this cost-saving measure would enable MCHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the County of Monterey (HACM), Salinas, CA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 13, 2009.

Reason Waived: This waiver was granted because this cost-saving measure would enable HACM to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of St. Mary's County (HASMC), Lexington Park, MD.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 13, 2009.

Reason Waived: This waiver was granted because this cost-saving measure would enable HASMC to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: West Allis Community Development Authority (WACDA), West Allis, WI.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 13, 2009.

Reason Waived: This waiver was granted because this cost-saving measure would enable WACDA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the Birmingham District (HABC), Birmingham, AL.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 16, 2009.

Reason Waived: This waiver was granted because this cost-saving measure would enable HABD to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Charleston (HACC), Charleston, SC.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 16, 2009.

Reason Waived: This waiver was granted because this cost-saving measure would enable HACC to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Richland (HACR), Richland, WA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 22, 2009.

Reason Waived: This waiver was granted because this cost-saving measure would enable HACR to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Decatur (HACD), Decatur, AL.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 23, 2009.

Reason Waived: This waiver was granted because this cost-saving measure would enable HACD to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Foley Housing Authority (FHA), Foley, AL.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 23, 2009.

Reason Waived: This waiver was granted because this cost-saving measure would enable FHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Redding (HACR), Redding, CA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 23, 2009.

Reason Waived: This waiver was granted because this cost-saving measure would enable HACR to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: County of Becker Housing and Economic Development Authority (CBHEDA), Detroit Lakes, MI.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 24, 2009.

Reason Waived: This waiver was granted because this cost-saving measure would enable CBHEDA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington DC 20410-5000, telephone (202) 708-0477.

• Regulation: 24 CFR 982.505(c)(3).

Project/Activity: Fairfield Alabama Housing Authority (FAHA), Selma, AL.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 24, 2009.

Reason Waived: This waiver was granted because this cost-saving measure would enable FAHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the County of Hidalgo (HACH), Weslaco, TX.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 24, 2009.

Reason Waived: This waiver was granted because this cost-saving measure would enable HACH to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Memphis Housing Authority (MHA), Memphis, TN.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 24, 2009.

Reason Waived: This waiver was granted because this cost-saving measure would enable MHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Miami Metropolitan Housing Authority (MMHA), Troy, OH.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 24, 2009.

Reason Waived: This waiver was granted because this cost-saving measure would enable MMHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Selma Housing Authority (SHA), Selma, AL.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 24, 2009.

Reason Waived: This waiver was granted because this cost-saving measure would enable SHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Cabool (HACC), Cabool, MO.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 31, 2009.

Reason Waived: This waiver was granted because this cost-saving measure would enable HACC to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Clearwater Housing Authority (CHA), Clearwater, FL.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 31, 2009.

Reason Waived: This waiver was granted because this cost-saving measure would enable CHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Cordova Housing Authority (CHA), Cordova, AL.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 5, 2009.

Reason Waived: This waiver was granted because this cost-saving measure would enable CHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Hampton Redevelopment and Housing Authority (HRHA), Hampton, VA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 31, 2009.

Reason Waived: This waiver was granted because this cost-saving measure would enable HRHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Hopewell Housing and Redevelopment Authority (HHRA), Hopewell, VA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 31, 2009.

Reason Waived: This waiver was granted because this cost-saving measure would enable HHRA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Montgomery Housing Authority (MHA), Montgomery, AL.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 31, 2009.

Reason Waived: This waiver was granted because this cost-saving measure would enable MHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Old Town (HACOT), Old Town, ME.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 31, 2009.

Reason Waived: This waiver was granted because this cost-saving measure would enable HACOT to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Roosevelt City Housing Authority (RCHA), Roosevelt, UT.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: July 31, 2009.

Reason Waived: This waiver was granted because this cost-saving measure would enable RCHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Wyoming Housing Commission (WHC), Wyoming, MI.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 5, 2009.

Reason Waived: This waiver was granted because this cost-saving measure would enable WHC to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Assumption Parish Police Jury (APPJ), Napoleonville, LA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 11, 2009.

Reason Waived: This waiver was granted because this cost-saving measure would enable APPJ to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Bridgeport (HACB), Bridgeport, CT.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 11, 2009.

Reason Waived: This waiver was granted because this cost-saving measure would enable HACB to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Chattanooga Housing Authority (CHA), Chattanooga, TN.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 11, 2009.

Reason Waived: This waiver was granted because this cost-saving measure would enable CHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Davis Community Housing Authority (DCHA), Farmington, UT.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 11, 2009.

Reason Waived: This waiver was granted because this cost-saving measure would enable DCHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Fort Dodge Housing Authority (FDHA), Fort Dodge, IA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 11, 2009.

Reason Waived: This waiver was granted because this cost-saving measure would enable FDHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Garfield County Housing Authority (GCHA), Rifle, CO.

Nature of Requirement: The regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 11, 2009.

Reason Waived: This waiver was granted because this cost-saving measure would enable GCHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Mobile Housing Board (MHB), Mobile, AL.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 11, 2009.

Reason Waived: This waiver was granted because this cost-saving measure would enable MHB to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Opelika (HACO), Opelika, AL.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 11, 2009.

Reason Waived: This waiver was granted because this cost-saving measure would enable HACO to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Yolo County Housing Authority (YCHA), Woodland, CA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 11, 2009.

Reason Waived: This waiver was granted because this cost-saving measure would enable YCHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Goshen Housing Authority (GHA), Goshen, IN.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 12, 2009.

Reason Waived: This waiver was granted because this cost-saving measure would enable GHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Odessa (HACO), Odessa, TX.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 12, 2009.

Reason Waived: This waiver was granted because this cost-saving measure would enable HACO to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Winnebago County Housing Authority (WCHA), Oshkosh, WI.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 12, 2009.

Reason Waived: This waiver was granted because this cost-saving measure would enable WCHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Mansfield Metropolitan Housing Authority (MMHA), Mansfield, OH.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 13, 2009.

Reason Waived: This waiver was granted because this cost-saving measure would enable MMHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Brunswick Housing Authority (BHA), Brunswick, GA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 18, 2009.

Reason Waived: This waiver was granted because this cost-saving measure would enable BHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Northport (HACN), Northport, AL.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: August 27, 2009.

Reason Waived: This waiver was granted because this cost-saving measure would enable HACN to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the County of Berks (HACB), Reading, PA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 1, 2009.

Reason Waived: This waiver was granted because this cost-saving measure would enable HACB to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of DeKalb County (HADC), Decatur, GA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 1, 2009.

Reason Waived: This waiver was granted because this cost-saving measure would enable HADC to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Mid Iowa Regional Housing Authority (MIRHA), Ft. Dodge, IA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 1, 2009.

Reason Waived: This waiver was granted because this cost-saving measure would enable MIRHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Central Texas Council of Governments (CTCOG), Belton, TX.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 3, 2009.

Reason Waived: This waiver was granted because this cost-saving measure would enable CTCOG to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Columbia (HACC), Columbia, MO.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 3, 2009.

Reason Waived: This waiver was granted because this cost-saving measure would enable HACC to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the County of Contra Costa (HACCC), Martinez, CA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 3, 2009.

Reason Waived: This waiver was granted because this cost-saving measure would enable HACCC to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Alice (HACA), Alice, TX.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 11, 2009.

Reason Waived: This waiver was granted because this cost-saving measure would enable HACA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Grayling Housing Commission (GHC), Grayling, MI.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 11, 2009.

Reason Waived: This waiver was granted because this cost-saving measure would enable GHC to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Michigan City Housing Authority (MCHA), Michigan City, IN.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 11, 2009.

Reason Waived: This waiver was granted because this cost-saving measure would enable MCHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Jacksonville Housing Authority (JHA), Jacksonville, FL.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 16, 2009.

Reason Waived: This waiver was granted because this cost-saving measure would enable JHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: San Diego Housing Commission (SDHC), San Diego, CA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 16, 2009.

Reason Waived: This waiver was granted because this cost-saving measure would enable SDHC to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Western Carolina Community Action (WCCA), Hendersonville, NC.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 16, 2009.

Reason Waived: This waiver was granted because this cost-saving measure would enable WCCA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Mankato Economic Development Authority (MEDA), Mankato, MN.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 17, 2009.

Reason Waived: This waiver was granted because this cost-saving measure would enable MEDA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Portsmouth Redevelopment and Housing Authority (PRHA), Portsmouth, VA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 17, 2009.

Reason Waived: This waiver was granted because this cost-saving measure would enable PRHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Central Iowa Regional Housing Authority (CIRHA), Grimes, IA.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 23, 2009.

Reason Waived: This waiver was granted because this cost-saving measure would enable CIRHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Housing Authority of the City of Jasper (HACJ), Jasper, AL.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 23, 2009.

Reason Waived: This waiver was granted because this cost-saving measure would enable HACJ to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Delray Beach Housing Authority (DBHA), Delray Beach, FL.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 24, 2009.

Reason Waived: This waiver was granted because this cost-saving measure would enable DBHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: East Tennessee Human Resource Agency (ETHRA), Knoxville, TN.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 24, 2009.

Reason Waived: This waiver was granted because this cost-saving measure would enable ETHRA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Village of Rockville Centre (VRC), Rockville Centre, NY.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 24, 2009.

Reason Waived: This waiver was granted because this cost-saving measure would enable the VRC to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Missoula Housing Authority (MHA), Missoula, MT.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 25, 2009.

Reason Waived: This waiver was granted because this cost-saving measure would enable MHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(c)(3).

Project/Activity: Annapolis Housing Authority (AHA), Annapolis, MD.

Nature of Requirement: HUD's regulation at 24 CFR 982.505(c)(3) provides that if the amount on the payment standard schedule is decreased during the term of the HAP contract, the lower payment standard amount generally must be used to calculate the monthly HAP for the family beginning at the effective date of the family's second regular reexamination following the effective date of the decrease.

Granted by: Sandra B. Henriquez, Assistant Secretary for Public and Indian Housing.

Date Granted: September 28, 2009.

Reason Waived: This waiver was granted because this cost-saving measure would enable AHA to both manage its Housing Choice Voucher program within allocated budget authority and avoid or lessen the termination of HAP contracts due to insufficient funding.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Housing Authority of the City of Los Angeles (HACLA), Los Angeles, CA.

Nature of Requirement: HUD's regulation at 24 CFR 982.505(d) states that a public housing agency may only approve a higher payment standard for a family as a reasonable accommodation if the higher payment standard is within the basic range of 90 to 110 percent of the fair market rent (FMR) for the unit size.

Granted by: Sandra B. Henriquez, Assistant Secretary for Public and Indian Housing.

Date Granted: July 2, 2009.

Reason Waived: The participant, who is disabled, needs to remain in his current unit because it accommodates his disability. To provide this reasonable accommodation so the client could be assisted in his current unit and pay no more than 40 percent of his adjusted income toward the family share, the HACLA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: San Francisco Housing Authority (SFHA), San Francisco, CA.

Nature of Requirement: HUD's regulation at 24 CFR 982.505(d) states that a public housing agency may only approve a higher payment standard for a family as a reasonable accommodation if the higher payment standard is within the basic range of 90 to 110 percent of the fair market rent (FMR) for the unit size.

Granted by: Sandra B. Henriquez, Assistant Secretary for Public and Indian Housing.

Date Granted: July 13, 2009.

Reason Waived: The client, who is disabled, needs to remain in her current unit because it has been modified to provide reasonable accommodation. To provide a reasonable accommodation so the client could be assisted in her current unit and pay no more than 40 percent of his adjusted income toward the family share, the SFHA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Housing Authority of the City of Middletown (HACM), Middletown, CT.

Nature of Requirement: HUD's regulation at 24 CFR 982.505(d) states that a public housing agency may only approve a higher payment standard for a family as a reasonable accommodation if the higher payment standard is within the basic range of 90 to 110 percent of the fair market rent (FMR) for the unit size.

Granted by: Sandra B. Henriquez, Assistant Secretary for Public and Indian Housing.

Date Granted: July 16, 2009.

Reason Waived: The applicant, who is disabled, needs to remain in his current unit because it has been modified to provide reasonable accommodation. To provide this reasonable accommodation so the client could be assisted in his current unit and pay no more than 40 percent of his adjusted income toward the family share, the HACM was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Salem Housing Authority (SHA), Salem, MA.

Nature of Requirement: HUD's regulation at 24 CFR 982.505(d) states that a public housing agency may only approve a higher payment standard for a family as a reasonable accommodation if the higher payment standard is within the basic range of 90 to 110 percent of the fair market rent (FMR) for the unit size.

Granted by: Sandra B. Henriquez, Assistant Secretary for Public and Indian Housing.

Date Granted: July 16, 2009.

Reason Waived: The client, who is disabled, needs to remain in her current unit because it has been modified to provide reasonable accommodation. To provide this reasonable accommodation so the client could be assisted in her current unit and pay no more than 40 percent of her adjusted income toward the family share, the SHA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Chippewa Housing Authority (CHA), Chippewa, WI.

Nature of Requirement: HUD's regulation at 24 CFR 982.505(d) states that a public housing agency may only approve a higher payment standard for a family as a reasonable accommodation if the higher payment standard is within the basic range of 90 to 110 percent of the fair market rent (FMR) for the unit size.

Granted by: Sandra B. Henriquez, Assistant Secretary for Public and Indian Housing.

Date Granted: September 11, 2009.

Reason Waived: The client, who is disabled, needs to remain in her current unit because it has features that provide reasonable accommodation. To provide this reasonable accommodation so the client could be assisted in her current unit and pay no more than 40 percent of her adjusted income toward the family share, the CHA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Housing Authority of the City of Los Angeles (HACLA), Los Angeles, CA.

Nature of Requirement: HUD's regulation at 24 CFR 982.505(d) states that a public housing agency may only approve a higher payment standard for a family as a reasonable accommodation if the higher payment standard is within the basic range of 90 to 110 percent of the fair market rent (FMR) for the unit size.

Granted by: Sandra B. Henriquez, Assistant Secretary for Public and Indian Housing.

Date Granted: September 16, 2009.

Reason Waived: The clients, who are disabled, need to remain in their current unit, as moving would be detrimental to their overall health. To provide a reasonable accommodation so that this husband and wife could be assisted in their current unit and pay no more than 40 percent of their adjusted income toward the family share, the HACLA was allowed to approve an exception payment standard that exceeded the basic range of 90 to 110 percent of the FMR.

Contact: Laure Rawson, Acting Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 1000.156 and 1000.158

Project/Activity: The following Tribes and Tribally designated housing entities (TDHE) requested a waiver to exceed the Total Development Cost (TDC) limits by 20% without HUD review and approval. The Tribes and TDHEs are required to maintain documentation showing that housing will be for low-income families and the design, size, and amenities are moderate and comparable to housing in the area. The wavier was granted in order to expedite the use of the economic stimulus funds made available under the American Recovery and Reinvestment Act of 2009 (Recovery Act) for Native Americans. Baranof Island Housing Authority, Sitka, AK; Bear River Band of Rohnerville Rancheria, Loleta, CA; Confederated Tribes of Siletz Indians, Siletz, OR; Puyalup Nation Housing Authority, Tacoma, WA; Coeur D'Alene Tribal Housing Authority, Plummer, ID; and Port Gamble S'Klallam Housing Authority, Kingston, WA.

Nature of Requirement: The regulation states that affordable housing developed, acquired, or assisted under the Indian Housing Block Grant (IHBG) program must be of moderate design. Each year TDC limits are published to provide recipients with affordable housing standards. These standards can be exceeded by 10% with Area Office of Native American Program (ONAP) approval and can be exceeded further with Headquarters approval. A recipient is required to submit justification to exceed the established TDC limits.

Granted by: Paula O. Blunt, General Deputy Assistant Secretary for Public and Indian Housing.

Date Granted: May 4, 2009.

Reason Waived: This specific waiver was included in the “Waiver of Certain Requirements in the Competitive and Noncompetitive Native American Housing Block Grant and the Indian Community Development Block Grant Programs under the American Recovery and Reinvestment Act of 2009” published in the Federal Register on May 29, 2009. The Recovery Act allowed for waivers to be granted if the waiver was necessary to expedite or facilitate the timely use of funds and would not be inconsistent with the overall purpose of the Recovery Act.

Contact: Deborah Lalancette, Director, Office of Grants Management, ONAP, Office of Public and Indian Housing, Department of Housing and Urban Development, 1670 Broadway 23rd Floor, Denver, CO 80202, telephone number (303) 675-1600 ext. 1625.

• Regulation: 24 CFR 1003.302(a).

Project/Activity: The Los Coyotes Band of Cahuilla Indians of Warner Springs, CA, an Indian Community Development Block Grant applicant, requested a waiver of the requirement to adopt housing rehabilitation standards prior to submitting an application. This waiver permits the applicant to submit the ICDBG application and adopt housing rehabilitation standards after award. This waiver was granted in order to expedite submission of an application for economic stimulus funds made available under the American Recovery and Reinvestment Act of 2009 (Recovery Act) for Native Americans.

Nature of Requirement: The regulation requires that ICDBG applicants for housing rehabilitation projects adopt rehabilitation standards and policies prior to submitting the application.

Granted by: Paula O. Blunt, General Deputy Assistant Secretary for Public and Indian Housing.

Date Granted: May 4, 2009.

Reason Waived: This specific waiver was included in the “Waiver of Certain Requirements in the Competitive and Noncompetitive Native American Housing Block Grant and the Indian Community Development Block Grant Programs under the American Recovery and Reinvestment Act of 2009 ” published in the Federal Register on May 29, 2009. The Recovery Act allowed for waivers to be granted if the waiver was necessary to expedite or facilitate the timely use of funds and would not be inconsistent with the overall purpose of the Recovery Act.

Contact: Deborah Lalancette, Director, Office of Grants Management, ONAP, Office of Public and Indian Housing, Department of Housing and Urban Development, 1670 Broadway 23rd Floor, Denver, CO 80202, telephone number (303) 675-1600 ext. 1625.

• Regulation: 24 CFR 1003.604.

Project/Activity: The following Indian Community Development Block Grant applicants requested a waiver of the requirement to consult with residents prior to submitting an application. This waiver permits these applicants to certify that the plans for the funds have been posted or published and comments solicited. The waiver is granted in order to expedite submission of an application for economic stimulus funds made available under the American Recovery and Reinvestment Act of 2009 (Recovery Act) for Native Americans. Akiachak Native Community, Akiachak, AK; Hannahville Potawatomie Housing Authority, Wilson, MI; Northern Cheyenne Tribal Housing Authority, Lame Deer, MT; Utah Paiute Housing Authority, Cedar City, UT; Grand Ronde Confederated Tribes, Grand Ronde, OR; and Laguna Housing Development and Management Enterprise, Laguna, NM.

Nature of Requirement: The regulations require Indian Community Development Block Grant applicants to consult with residents prior to submitting their application.

Granted by: Paula O. Blunt, General Deputy Assistant Secretary for Public and Indian Housing.

Date Granted: May 4, 2009.

Reason Waived: This specific waiver was included in the “Waiver of Certain Requirements in the Competitive and Noncompetitive Native American Housing Block Grant (NAHBG) and the Indian Community Development Block Grant (ICDBG) Programs under the American Recovery and Reinvestment Act of 2009 (Recovery Act)” published in the Federal Register on May 29, 2009. The Recovery Act allowed for waivers to be granted if the waiver was necessary to expedite or facilitate the timely use of funds and would not be inconsistent with the overall purpose of the Recovery Act.

Contact: Deborah Lalancette, Director, Office of Grants Management, ONAP, Office of Public and Indian Housing, Department of Housing and Urban Development, 1670 Broadway 23rd Floor, Denver, CO 80202, telephone number (303) 675-1600 ext. 1625.

[FR Doc. E9-30881 Filed 12-30-09; 8:45 am]

BILLING CODE 4210-67-P